DEPARTMENT OF STATE

[Public Notice: 10985]

Boundary Waters Treaty of 1909; Fargo, ND Hearing International Red River Board Report on Nutrient Targets

AGENCY: International Joint Commission, State.

ACTION: Notice of public hearing.

SUMMARY: The International Joint Commission Invites Public Comment on Recommendations by the International Red River Board (IRRB) on proposed nutrient concentration objectives and nutrient load targets for the Red River at the boundary between the United States and Canada. Comments will be accepted at a public hearing to be held on January 16, 2020 in Fargo, North Dakota and by mail, email and on-line until February 28, 2020. The IRRB's full report can be found on the IJC website at the following link: www.ijc.org/what/engagement/public-comment-IIRB-nutrient-2020. Public Hearing on IRRB's Report on Proposed Nutrient Water Quality Objectives:

DATES: January 16, 2020. Time: 7-9 p.m.

ADDRESSES: Delta Marriott Fargo, 1635 42nd St. SW, Fargo, ND 58103.

FOR FURTHER INFORMATION CONTACT: Sarah Lobrichon (Ottawa), 613-992-5368, lobrichons@ottawa.ijc.org or Frank Bevacqua (Washington), 202-736-9024, bevacqauf@washington.ijc.org.

SUPPLEMENTARY INFORMATION: The Commission reports on water quality of the Red River as it crosses the boundary pursuant to a reference under Article IX of the Boundary Waters Treaty between the United States and Canada. Commission recommendations to the two federal governments under Article IX References of the Boundary Waters Treaty are not binding and not to be considered decisions of the two federal governments.

The International Red River Board was established by the Commission in part to assist in reporting on the water quality of the Red River as it crosses the boundary and to recommend amendments or additions to the water quality objectives approved by the U.S. and Canadian governments in 1968 when considered warranted by the Commission.

In the 2000s the IRRB identified nutrients as an issue of concern. The Board established a Water Quality Committee to develop recommendations for potential nutrient load allocations and/or targets. At the IRRB's September 2019 meeting the Board agreed to recommend the following nutrient concentration objectives and nutrient load targets for the Red River at the boundary between the U.S. and Canada:

Nutrient concentration objective: Total Phosphorus 0.15 mg/L; Total Nitrogen 1.15 mg/L

Application: Seasonal Average (April 1-October 30)

Nutrient load target: Total Phosphorus 1,400 tonnes/year; Total Nitrogen 9,525 tonnes/year

Application: Five year running average

Commissioners will be present to hear comments at the above referenced public hearing in Fargo, North Dakota on January 16, 2020 from 7-9 p.m. A public comment period on the IRRB's report will also be open through February 28, 2020. Public input is essential to the Commission's consideration of a recommendation to the Governments of the United States and Canada.

The International Joint Commission was established under the Boundary Waters Treaty of 1909 to help the United States and Canada prevent and resolve disputes over the use of the waters the two countries share. Its responsibilities include investigating and reporting on issues of concern when asked by the governments of the two countries. www.ijc.org.

Charles A. Lawson,
Secretary, U.S. Section, International Joint Commission, Department of State.

[FR Doc. 2019-27946 Filed 12-26-19; 8:45 am]

BILLING CODE 4710-14-P